DEPARTMENT OF THE INTERIOR

National Park Service

[NPS-WASO-NRNHL-17784; PPWOCRADI0, PCU00RP14.R50000]

National Register of Historic Places; Notification of Pending Nominations and Related Actions

Nominations for the following properties being considered for listing or related actions in the National Register were received by the National Park Service before February 21, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by April 1, 2015. Before including your address, phone number, email address, or other personal identifying information in your comment, you should be aware that your entire comment—including your personal identifying information—may be made publicly available at any time. While you can ask us in your comment to withhold your personal identifying information from public review, we cannot guarantee that we will be able to do so.

Dated: February 27, 2015.
James Gabbert,
Acting Chief, National Register of Historic Places, National Historic Landmarks Program.

CALIFORNIA

Contra Costa County

Borland Home, (Martinez, California MPS) 1005 Escobar St., Martinez, 15000120

Los Angeles County

Intercultural Council Houses, (Latinos in 20th Century California MPS) Bounded by Blanchard Pl., Claremont Blvd., E. 1st & Brooks Sts., Claremont, 15000121

Napa County

Juarez, Cayetano, Adobe, 376 Soscol Ave., Napa, 15000122

Weinberger, J.C., Winery, 2849 St. Helena Hwy., St. Helena, 15000124

Orange County

Killefer, Lydia D., School, (Latinos in 20th Century California MPS), 541 N. Lemon St., Orange, 15000123

COLORADO

Denver County

Macedonia Baptist Church, 3240 Adams St., Denver, 15000125

Eagle County

Upper Brush Creek School, (Rural School Buildings in Colorado MPS), Between Coulter Meadow & W. Brush Cr. Rds., Eagle, 15000126

FLORIDA

Leon County

Taylor House, 442 W. Georgia St., Tallahassee, 15000127

HAWAII

Honolulu County

Moili'ili Japanese Cemetery, 2624 Kapiolani Blvd., Honolulu, 15000128

MISSISSIPPI

Adams County

Natchez On-Top-of-the-Hill Historic District (Boundary Increase), 1 & 3 E. Franklin St., Natchez, 15000129

RHODE ISLAND

Providence County

Cutler, Susan S. & Edward J., House, 12 Woodbine St., Providence, 15000138

UTAH

Davis County

Hill, Joseph, Family Cabin, 2133 W. 1000 South, Layton, 15000130

Salt Lake County

Amundsen, Dyre & Maria, House, 307 W. Winchester St., Murray City, 15000131

Twenty-Ninth Ward LDS Meetinghouse, 1102 W. 400 North, Salt Lake City, 15000132

Western Macaroni Manufacturing Company Factory, 244 S. 500 West, Salt Lake City, 15000133

Weber County

Weber River Railroad Bridge, 1/2 mi. W. of Union Station along Exchange Rd.,Ogden, 15000134

VIRGINIA

Bath County

Camp Alkulana Historic District, 111 Alkulana Camp Rd., Millboro Springs, 15000135

Camp Mont Shenandoah Historic District, 218 Mont Shenandoah Ln., Millboro Springs, 15000136

WISCONSIN

Fond Du Lac County

Independent Order of Odd Fellows Lodge No. 89, 203 W. Division St., Rosendale, 15000137

A request for removal has been made for the following resources:

ARIZONA

Maricopa County

Arizona Citrus Growers Association Warehouse, (Phoenix Commercial MRA) 601 E. Jackson, Phoenix, 85002043

Campbell, Clinton, House, (Nineteenth-Century Residential Buildings in Phoenix MPS), 361 N. 4th Ave., Phoenix, 94001526

Cisney, George E., House, (Nineteenth-Century Residential Buildings in Phoenix MPS), 916 E. McKinley St., Phoenix, 94001528

Concrete Block House, (Roosevelt Neighborhood MRA) 618-620 N. 4th Ave., Phoenix, 83003457

Higuera Grocery, (Phoenix Commercial MRA) 923 S. Second Ave., Phoenix, 85002893

Hotel St. James, (Phoenix Commercial MRA) 21 E. Madison, Phoenix, 85002061

Lightning Delivery Co. Warehouse, (Phoenix Commercial MRA) 425 E. Jackson, Phoenix, 85002064

Overland Arizona Co., (Phoenix Commercial MRA) 12 N. Fourth Ave., Phoenix, 85002896

Stillwell, Judge W. H., House, (Nineteenth-Century Residential Buildings in Phoenix MPS) 2039 W. Monroe St., Phoenix, 94001537

[FR Doc. 2015-06025 Filed 3-16-15; 8:45 am]

BILLING CODE 4312-51-P